DEPARTMENT OF COMMERCE

National Oceanic and Atmospheric Administration

[I.D. 081701C]

Fishery Management Council; Public Meeting

AGENCY: National Marine Fisheries Service (NMFS), National Oceanic and Atmospheric Administration (NOAA), Commerce.

ACTION: Notice of plan team meeting.

SUMMARY: The North Pacific Fishery Management Council’s (Council) Plan Team for the Bering Sea/Aleutian Islands (BSAI) King and Tanner Crab Fishery Management Plan (FMP) will meet in Anchorage, AK.

DATES: The meeting will be held on September 20-21, 2001.

ADDRESSES: The meeting will be held at the Hilton Hotel, 500 W. Third Avenue, Anchorage, AK.

Council address: North Pacific Fishery Management Council, 605 W. 4th Ave., Suite 306, Anchorage, AK 99501-2252.

FOR FURTHER INFORMATION CONTACT: David Witherell, North Pacific Fishery Management Council, 907-271-2809.

SUPPLEMENTARY INFORMATION: The meeting will begin at 8:00 a.m. on Thursday, September 20th, and continue on Friday, September 21st. The Plan Team will address the following topics:

1. Preparation of the 2001 BSAI King and Tanner Crab Stock Assessment and Fishery Evaluation document.

2. Review of BSAI King and Tanner Crab survey information and guideline harvest levels for 2001-02.

3. Review of biological seasons in the BSAI King and Tanner Crab FMP.

4. Review of pending Alaska Board of Fisheries and Council proposals pertaining to or affecting BSAI king and Tanner crab fisheries or stocks.

5. Progress on Eastern Bering Sea snow crab harvest strategy development.

6. Update on king and Tanner crab research pertinent to BSAI stocks.

7. Discussion of crab essential fish habitat.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Helen Allen, 907-271-2809, at least 5 working days prior to the meeting date.

Dated: August 21, 2001.
Richard W. Surdi,
Acting Director, Office of Sustainable Fisheries, National Marine Fisheries Service.

[FR Doc. 01-21598 Filed 8-24-01; 8:45 am]

BILLING CODE 3510-22-S